DEPARTMENT OF HEALTH AND HUMAN SERVICES

National Institutes of Health

National Cancer Institute; Amended Notice of Meeting

Notice is hereby given of a change in the meeting of the National Cancer Institute Special Emphasis Panel, March 25, 2010, 12:30 p.m. to March 25, 2010, 5:30 p.m., National Institutes of Health, 6116 Executive Boulevard, 210, Rockville, MD 20852 which was published in the Federal Register on February 19, 2010, 75 FR 7489.

This FRN is amending the name of the committee from SBIR Topic 258 to “Innovative Devices to Protect Radiosensitive Organs.” The meeting is closed to the public.

Dated: March 5, 2010.
Jennifer Spaeth,
Director, Office of Federal Advisory Committee Policy.

[FR Doc. 2010-5500 Filed 3-11-10; 8:45 am]

BILLING CODE 4140-01-P